DEPARTMENT OF TRANSPORTATION

Federal Aviation Administration

14 CFR Part 39

[Docket No. FAA-2004-19537; Directorate Identifier 2004-NM-145-AD]

RIN 2120-AA64

Airworthiness Directives; Airbus Model A300 B4-600, B4-600R, and F4-600R Series Airplanes; and C4-605R Variant F Airplanes (Collectively Called A300-600), and Model A310 Series Airplanes Equipped With Certain Honeywell Inertial Reference Units (IRU)

AGENCY: Federal Aviation Administration (FAA), DOT.

ACTION: Notice of proposed rulemaking (NPRM).

SUMMARY: The FAA proposes to adopt a new airworthiness directive (AD) for all Airbus Model A300 B4-600, B4-600R, and F4-600R series airplanes; and C4-605R Variant F airplanes (collectively called A300-600), and Model A310 series airplanes, equipped with certain Honeywell inertial reference units (IRUs). This proposed AD would require revising the Limitations section of the Airplane Flight Manual to prohibit the use of CAT 2 and CAT 3 automatic landing and rollout procedures at certain airports. This proposed AD is prompted by a report that some magnetic deviation tables in the IRU database are obsolete and contain significant differences with the real magnetic deviations. We are proposing this AD to prevent an airplane from deviating from the runway centerline, and possibly departing the runway.

DATES: We must receive comments on this proposed AD by December 6, 2004.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or at the Docket Management Facility, U.S. Department of Transportation, 400 Seventh Street SW., room PL-401, on the plaza level of the Nassif Building, Washington, DC.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19537; Directorate Identifier 2004-NM-145-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Generale de l'Aviation Civile (DGAC), which is the airworthiness authority for France, notified us that an unsafe condition may exist on certain Airbus Model A300 B4-600, B4-600R, and F4-600R series airplanes; and C4-605R Variant F airplanes (collectively called A300-600), and Model A310 series airplanes, equipped with certain Honeywell inertial reference units (IRUs). The DGAC advises that the magnetic variation table, which is implemented in certain Honeywell IRUs, is obsolete in certain airports. Studies have shown that for a given airport, a difference greater than two degrees between the real magnetic deviation and the one implemented in the IRUs could lead to an unsafe situation during CAT 2 or CAT 3 automatic landings and rollouts. This condition, if not corrected, could result in the airplane deviating from the runway centerline and possibly departing the runway.

Relevant Service Information

Airbus has issued Temporary Revisions (TRs) 6.01.03/08 (for Model A300-600 series airplanes) and 6.01.03/36 (for Model A310 series airplanes), both dated January 6, 2003. The TRs give a list of airports concerned and a date from which automatic landings (AUTOLAND) and automatic taxiing after touchdown (rollout) procedures are prohibited. The DGAC mandated the service information and issued French airworthiness directive F-2004-093, issued June 23, 2004, to ensure the continued airworthiness of these airplanes in France.

FAA's Determination and Requirements of the Proposed AD

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require revising the Limitations section of the airplane flight manual (AFM) to prohibit the use of CAT 2 and CAT 3 automatic landing and rollout procedures at certain airports. The proposed AD would require you to use the service information described previously to perform these actions. After accomplishing the replacement of the Honeywell IRU required by AD 2003-20-01, amendment 39-13319 (68 FR 55814, September 29, 2003), the AFM revision may be removed.

Costs of Compliance

This proposed AD would affect about 136 airplanes of U.S. registry. The proposed AFM revision would take about 1 work hour per airplane, at an average labor rate of $65 per work hour. Based on these figures, the estimated cost of the proposed AD for U.S. operators is $8,840, or $65 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19537; Directorate Identifier 2004-NM-145-AD.

Comments Due Date

(a) The Federal Aviation Administration must receive comments on this AD action by December 6, 2004.

Affected ADs

(b) None.

Applicability

(c) This AD applies to Airbus airplanes, certificated in any category; as listed in Table 1:

Table 1.—Applicability
Model— | Equipped with any Honeywell airplanes inertial reference unit (IRU) having part number— | Excluding airplanes modified in accordance with—
A300 B4-600, B4-600R, and F4-600R series airplanes; and C4-605R Variant F airplanes (collectively called A300-600) | HG1050BD01, HG1050BD02, or HG1050BD05 | Airbus modification 12304 in production.
A310 series airplanes | HG1050BD01, HG1050BD02, or HG1050BD05 | Airbus modification in production.

Unsafe Condition

(d) This AD was prompted by a report that some magnetic deviation tables in the IRU database are obsolete and contain significant differences with the real magnetic deviations. We are issuing this AD to prevent an airplane from deviating from the runway centerline, and possibly departing the runway.

Compliance

(e) You are responsible for having the actions required by this AD performed within the compliance times specified, unless the actions have already been done.

Airplane Flight Manual (AFM) Revision

(f) Within 10 days after the effective date of this AD, revise the Limitations section of the AFM by inserting a copy of the applicable Airbus Airplane Flight Manual Temporary Revision listed in Table 2 of this AD into the AFM.

Note 1: When Airbus includes these TRs in general revisions of the AFM, the general revisions may be inserted in the AFM, provided the relevant information in the general revision is identical to that in TRs 6.01.03/08 and 6.01.03/36.

Table 2.—AFM TRs
Model— | Airbus— | Dated—
(1) A300 B4-600, B4-600R, and F4-600R series airplanes; and C4-605R Variant F airplanes (collectively called A300-600) | A300-600 Flight Manual TR 6.01.03/08 | February 9, 2003.
(2) A310 series airplanes | A310 Flight Manual TR6.01.03/36 | February 9, 2003.

Terminating Action

(g) After replacing the Honeywell inertial reference units (IRUs) with new or modified Honeywell IRUs in accordance with the requirements of AD 2003-20-01, amendment 39-13319 (68 FR 55814), the AFM revision required by paragraph (f) of this AD may be removed.

Alternative Methods of Compliance (AMOCs)

(h) The Manager, International Branch, ANM-116, FAA, Transport Airplane Directorate, has the authority to approve AMOCs for this AD, if requested in accordance with the procedures found in 14 CFR 39.19.

Related Information

(i) French airworthiness directive F-2004-093 (B), issued June 23, 2004, also addresses the subject of this AD.

Issued in Renton, Washington, on October 28, 2004.
Ali Bahrami,
Manager, Transport Airplane Directorate, Aircraft Certification Service.

[FR Doc. 04-24725 Filed 11-4-04; 8:45 am]

BILLING CODE 4910-13-P